NATIONAL AERONAUTICS AND SPACE ADMINSTRATION

[Notice 05-038]

NASA Search for Earth-Like Planets Strategic Roadmap Committee; Meeting

AGENCY: National Aeronautics and Space Administration (NASA).

ACTION: Notice of meeting.

SUMMARY: In accordance with the Federal Advisory Committee Act, Public Law 92-463, as amended, the National Aeronautics and Space Administration announces a meeting of the Search for Earth-Like Planets Strategic Roadmap Committee.

DATES: Tuesday, March 29, 2005, 8:30 a.m. to 5 p.m., Wednesday, March 30, 2005, 8:30 a.m. to 5 p.m. Eastern Standard Time.

ADDRESSES: Nassau Inn, 10 Palmer Square, Princeton, New Jersey 08542.

FOR FURTHER INFORMATION CONTACT: Dr. Eric Smith, 202-358-2439.

SUPPLEMENTARY INFORMATION: The meeting will be open to the public up to the seating capacity of the meeting room. Attendees will be requested to sign a register.

The agenda for the meeting is as follows:

—Discussion scientific measurements required for roadmap success

—Discussion of key decision points in the roadmap

—Review of relevant capability roadmap material submitted to the NRC

—Review of draft roadmap materials

It is imperative that the meeting be held on these dates to accommodate the scheduling priorities of the key participants.

Michael F. O'Brien,
Assistant Administrator for External Relations, National Aeronautics and Space Administration.

[FR Doc. 05-4510 Filed 3-7-05; 8:45 am]

BILLING CODE 7510-13X-P